DEPARTMENT OF ENERGY

Federal Energy Regulatory Commission

Combined Notice of Filings #1

Take notice that the Commission received the following exempt wholesale generator filings:

Docket Numbers: EG16-90-000.

Applicants: Beacon Solar 1, LLC.

Description: Notice of Self-Certification of Exempt Wholesale Generator (EWG) Status of Beacon Solar 1, LLC.

Filed Date: 5/3/16.

Accession Number: 20160503-5081.

Comments Due: 5 p.m. ET 5/24/16.

Docket Numbers: EG16-91-000.

Applicants: Beacon Solar 3, LLC.

Description: Notice of Self-Certification of Exempt Wholesale Generator (EWG) of Beacon Solar 3, LLC.

Filed Date: 5/3/16.

Accession Number: 20160503-5082.

Comments Due: 5 p.m. ET 5/24/16.

Docket Numbers: EG16-92-000.

Applicants: Beacon Solar 4, LLC.

Description: Notice of Self-Certification of Exempt Wholesale Generator (EWG) Status of Beacon Solar 4, LLC.

Filed Date: 5/3/16.

Accession Number: 20160503-5083.

Comments Due: 5 p.m. ET 5/24/16.

Take notice that the Commission received the following electric rate filings:

Docket Numbers: ER10-2964-011.

Applicants: Selkirk Cogen Partners, L.P.

Description: Notice of Non-Material Change in Status of Selkirk Cogen Partners, L.P.

Filed Date: 4/29/16.

Accession Number: 20160429-5579.

Comments Due: 5 p.m. ET 5/20/16.

Docket Numbers: ER13-1942-003.

Applicants: New York Independent System Operator, Inc.

Description: Compliance filing: Compliance filing to remove rejected text and insert missing text into the OATT to be effective. 1/15/2013

Filed Date: 5/2/16.

Accession Number: 20160502-5297.

Comments Due: 5 p.m. ET 5/23/16.

Docket Numbers: ER14-1578-006.

Applicants: PacifiCorp.

Description: Load Aggregation Point Disaggregation Study of PacifiCorp.

Filed Date: 4/29/16.

Accession Number: 20160429-5604.

Comments Due: 5 p.m. ET 5/20/16.

Docket Numbers: ER15-114-002.

Applicants: Alterna Springerville LLC.

Description: Notice of Non-Material Change in Status of Alterna Springerville LLC.

Filed Date: 4/29/16.

Accession Number: 20160429-5582.

Comments Due: 5 p.m. ET 5/20/16.

Docket Numbers: ER16-846-001.

Applicants: Southwest Power Pool, Inc.

Description: Compliance filing: 3165 Substitute Otter Tail Power Company NITSA and NOA—Compliance Filing to be effective 1/1/2016.

Filed Date: 5/2/16.

Accession Number: 20160502-5346.

Comments Due: 5 p.m. ET 5/23/16.

Docket Numbers: ER16-853-001; ER16-855-001; ER16-856-001; ER16-857-001; ER16-858-001; ER16-860-001; ER16-861-001.

Applicants: Enterprise Solar, LLC, Escalante Solar I, LLC, Escalante Solar II, LLC, Escalante Solar III, LLC, Granite Mountain Solar East, LLC, Granite Mountain Solar West, LLC, Iron Springs Solar, LLC.

Description: Notice of in Change in Status of the Dominion Companies, et al.

Filed Date: 4/29/16.

Accession Number: 20160429-5586.

Comments Due: 5 p.m. ET 5/20/16.

Docket Numbers: ER16-862-001.

Applicants: Southwest Power Pool, Inc.

Description: Compliance filing: 3126R1 Substitute WAPA NITSA and NOA—Compliance Filing to be effective 1/1/2016.

Filed Date: 5/2/16.

Accession Number: 20160502-5271.

Comments Due: 5 p.m. ET 5/23/16.

Docket Numbers: ER16-863-001.

Applicants: Southwest Power Pool, Inc.

Description: Compliance filing: 3125R1 Substitute Basin Electric Power Cooperative NITSA—Compliance Filing to be effective 1/1/2016.

Filed Date: 5/2/16.

Accession Number: 20160502-5289.

Comments Due: 5 p.m. ET 5/23/16.

Docket Numbers: ER16-1302-001.

Applicants: Southern California Edison Company.

Description: Tariff Amendment: Resubmit Amended LGIA Coso Finance Partners to be effective 1/1/2016.

Filed Date: 5/3/16.

Accession Number: 20160503-5063.

Comments Due: 5 p.m. ET 5/24/16.

Docket Numbers: ER16-1603-000.

Applicants: San Diego Gas & Electric Company.

Description: § 205(d) Rate Filing: SDG&E TO4 Formula Depreciation Rate Change 2016 to be effective 1/1/2017.

Filed Date: 5/2/16.

Accession Number: 20160502-5286.

Comments Due: 5 p.m. ET 5/23/16.

Docket Numbers: ER16-1604-000.

Applicants: San Diego Gas & Electric Company.

Description: § 205(d) Rate Filing: SDG&E TO4 Formula Depreciation Rate Change 2016 to be effective 1/1/2017.

Filed Date: 5/2/16.

Accession Number: 20160502-5354.

Comments Due: 5 p.m. ET 5/23/16.

Docket Numbers: ER16-1607-000.

Applicants: Alabama Power Company, Georgia Power Company.

Description: Notice of Termination of the Transmission Facilities Agreement Between Alabama Power Company and Georgia Power Company.

Filed Date: 4/29/16.

Accession Number: 20160429-5584.

Comments Due: 5 p.m. ET 5/20/16.

Docket Numbers: ER16-1608-000.

Applicants: Mississippi Power Company, Gulf Power Company.

Description: Notice of Termination of the Transmission Facilities Agreement Between Mississippi Power Company and Gulf Power Company.

Filed Date: 4/29/16.

Accession Number: 20160429-5587.

Comments Due: 5 p.m. ET 5/20/16.

Docket Numbers: ER16-1609-000.

Applicants: ID SOLAR 1, LLC.

Description: Baseline eTariff Filing: Baseline New to be effective 5/4/2016.

Filed Date: 5/3/16.

Accession Number: 20160503-5068.

Comments Due: 5 p.m. ET 5/24/16.

Docket Numbers: ER16-1610-000.

Applicants: V3 Commodities Group, LLC.

Description: Baseline eTariff Filing: Baseline New to be effective 5/4/2016.

Filed Date: 5/3/16.

Accession Number: 20160503-5078.

Comments Due: 5 p.m. ET 5/24/16.

Docket Numbers: ER16-1611-000.

Applicants: PJM Interconnection, L.L.C.

Description: Tariff Cancellation: Notice of Cancellation of WMPA SA No. 3254, Queue No. W4-065 due to Breach to be effective 5/3/2016.

Filed Date: 5/3/16.

Accession Number: 20160503-5096.

Comments Due: 5 p.m. ET 5/24/16.

Docket Numbers: ER16-1612-000.

Applicants: Georgia Power Company.

Description: Compliance filing: Compliance Filing to March 4, 2016 Letter Order issued in Docket No. ER16-586 to be effective 1/1/2015.

Filed Date: 5/3/16.

Accession Number: 20160503-5097.

Comments Due: 5 p.m. ET 5/24/16.

Docket Numbers: ER16-1613-000.

Applicants: California Power Exchange Corporation.

Description: § 205(d) Rate Filing: Rate Filing for Rate Period 29 to be effective 7/1/2016.

Filed Date: 5/3/16.

Accession Number: 20160503-5098.

Comments Due: 5 p.m. ET 5/24/16.

Docket Numbers: ER16-1614-000.

Applicants: Louisiana Generating LLC.

Description: Request of Louisiana Generating LLC to recover costs associated with acting as a Local Balancing Authority under MISO Tariff.

Filed Date: 5/2/16.

Accession Number: 20160502-5400.

Comments Due: 5 p.m. ET 5/23/16.

Docket Numbers: ER16-1615-000.

Applicants: PJM Interconnection, L.L.C.

Description: Tariff Cancellation: Notice of Cancellation WMPA SA No. 3442, Queue No. X1-114 due to Breach to be effective 5/3/2016.

Filed Date: 5/3/16.

Accession Number: 20160503-5101.

Comments Due: 5 p.m. ET 5/24/16.

Take notice that the Commission received the following electric securities filings:

Docket Numbers: ES16-31-000.

Applicants: Delmarva Power & Light Company, Potomac Electric Power Company.

Description: Application for Authorization to Issue Securities of PHI Service Company on behalf of the Applicants.

Filed Date: 4/29/16.

Accession Number: 20160429-5565.

Comments Due: 5 p.m. ET 5/20/16.

Docket Numbers: ES16-32-000.

Applicants: Transource West Virginia, LLC.

Description: Application Under Section 204 of the Federal Power Act for Authorization to Issue Securities of Transource West Virginia, LLC.

Filed Date: 4/29/16.

Accession Number: 20160429-5598.

Comments Due: 5 p.m. ET 5/20/16.

Docket Numbers: ES16-33-000.

Applicants: Transource Missouri, LLC.

Description: Application Under Section 204 of the Federal Power Act for Authorization to Issue Securities of Transource Missouri, LLC.

Filed Date: 4/29/16.

Accession Number: 20160429-5601.

Comments Due: 5 p.m. ET 5/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2016.
Nathaniel J. Davis, Sr.,
Deputy Secretary.

[FR Doc. 2016-10866 Filed 5-9-16; 8:45 am]

BILLING CODE 6717-01-P